Title 3—

The President

Memorandum of June 28, 2007

Assignment of Reporting Function

Memorandum for the Director of the Office of Personnel Management

By the authority vested in me as President by the Constitution and the laws of the United States, including section 301 of title 3, United States Code, I hereby assign to you the reporting function conferred upon the President by section 9003(d)(3) of title 5, United States Code.

You are authorized and directed to publish this memorandum in the Federal Register.

THE WHITE HOUSE,

Washington, June 28, 2007.

[FR Doc. 07-3233

Filed 6-29-07; 8:45 am]

Billing code 6325-01-M